DEPARTMENT OF THE INTERIOR

Fish and Wildlife Service

[Docket No. FWS-HQ-IA-2020-0031; FXIA16710900000-201-FF09A30000]

Foreign Endangered Species; Marine Mammals; Receipt of Permit Applications

AGENCY: Fish and Wildlife Service, Interior.

ACTION: Notice of receipt of permit applications; request for comments.

SUMMARY: We, the U.S. Fish and Wildlife Service (Service), invite the public to comment on applications to conduct certain activities with foreign species that are listed as endangered under the Endangered Species Act (ESA) and foreign or native species for which the Service has jurisdiction under the Marine Mammal Protection Act (MMPA). With some exceptions, the ESA and the MMPA prohibit activities with listed species unless Federal authorization is issued that allows such activities. The ESA and MMPA also require that we invite public comment before issuing permits for any activity otherwise prohibited by the ESA or MMPA with respect to any endangered species or marine mammals.

DATES: We must receive comments by June 22, 2020.

ADDRESSES:

Obtaining Documents: The applications, application supporting materials, and any comments and other materials that we receive will be available for public inspection at http://www.regulations.gov in Docket No. FWS-HQ-IA-2020-0031.

Submitting Comments: When submitting comments, please specify the name of the applicant and the permit number at the beginning of your comment. You may submit comments by one of the following methods:

• Internet: http://www.regulations.gov. Search for and submit comments on Docket No. FWS-HQ-IA-2020-0031.

• U.S. mail: Public Comments Processing, Attn: Docket No. FWS-HQ-IA-2020-0031; U.S. Fish and Wildlife Service Headquarters, MS: PRB/3W; 5275 Leesburg Pike; Falls Church, VA 22041-3803.

For more information, see Public Comment Procedures under SUPPLEMENTARY INFORMATION.

FOR FURTHER INFORMATION CONTACT: Monica Thomas, by phone at 703-358-2185, via email at DMAFR@fws.gov, or via the Federal Relay Service at 800-877-8339.

SUPPLEMENTARY INFORMATION:

I. Public Comment Procedures

A. How do I comment on submitted applications?

We invite the public and local, State, Tribal, and Federal agencies to comment on these applications. Before issuing any of the requested permits, we will take into consideration any information that we receive during the public comment period.

You may submit your comments and materials by one of the methods in ADDRESSES. We will not consider comments sent by email or fax, or to an address not in ADDRESSES. We will not consider or include in our administrative record comments we receive after the close of the comment period (see DATES).

When submitting comments, please specify the name of the applicant and the permit number at the beginning of your comment. Provide sufficient information to allow us to authenticate any scientific or commercial data you include. The comments and recommendations that will be most useful and likely to influence agency decisions are: (1) Those supported by quantitative information or studies; and (2) those that include citations to, and analyses of, the applicable laws and regulations.

B. May I review comments submitted by others?

You may view and comment on others' public comments at http://www.regulations.gov, unless our allowing so would violate the Privacy Act (5 U.S.C. 552a) or Freedom of Information Act (5 U.S.C. 552).

C. Who will see my comments?

If you submit a comment at http://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

II. Background

To help us carry out our conservation responsibilities for affected species, and in consideration of section 10(c) of the Endangered Species Act of 1973, as amended (ESA; 16 U.S.C. 1531 et seq.), and section 104(c) of the Marine Mammal Protection Act of 1972, as amended (MMPA; 16 U.S.C. 1361 et seq.), we invite public comments on permit applications before final action is taken. With some exceptions, the ESA and MMPA prohibit certain activities with listed species unless Federal authorization is issued that allows such activities. Permits issued under section 10(a)(1)(A) of the ESA allow otherwise prohibited activities for scientific purposes or to enhance the propagation or survival of the affected species. Service regulations regarding prohibited activities with endangered species, captive-bred wildlife registrations, and permits for any activity otherwise prohibited by the ESA with respect to any endangered species are available in title 50 of the Code of Federal Regulations in part 17. Service regulations regarding permits for any activity otherwise prohibited by the MMPA with respect to any marine mammals are available in title 50 of the Code of Federal Regulations in part 18. Concurrent with publishing this notice in the Federal Register, we are forwarding copies of the marine mammal application to the Marine Mammal Commission and the Committee of Scientific Advisors for their review.

III. Permit Applications

We invite comments on the following applications.

A. Endangered Species

Applicant: NRCAN Natural Resource Canada c/o U.S. Fish and Wildlife Service Maine Field Office, East Orland, ME; Permit No. 53601D

The applicant requests authorization to export to Canada wild furbish lousewort (Pedicularis furbishiae) seeds collected in Maine for the purpose of enhancing the propagation or survival of the species. This notification covers activities to be conducted by the applicant over a 5-year period.

Applicant: Chicago Botanic Garden, Glencoe, IL; Permit No. 69662D

The applicant requests authorization to import seed and pollen of the Olulu plant (Brighamia insignis) from multiple botanic institutions for the purpose of enhancing the propagation or survival of the species. This notification covers activities to be conducted by the applicant over a 5-year period.

Applicant: University of Massachusetts Amherst, Amherst, MA; Permit No. 63307D

The applicant requests authorization to import biological samples derived from wild Verreaux's sifakas (Propithecus verreauxi), ring-tailed lemurs (Lemur catta), and red-and-gray mouse lemurs (Microcebus griseorufus), taken in Madagascar, for the purpose of scientific research. This notification covers activities to be conducted by the applicant over a 5-year period.

Applicant: Tony Goldberg, Madison, WI; Permit No. 56953D

The applicant requests a permit to import biological samples derived from wild and captive-born common chimpanzees (Pan troglodytes), taken in the Republic of Congo, for the purpose of scientific research. This notification is for a single import.

Applicant: Columbus Zoo and Aquarium, Powell, OH; Permit No. 60002D

The applicant requests authorization to import biological samples derived from wild black-and-white ruffed lemurs (Varecia variegata), taken in Madagascar, for the purpose of scientific research. This notification covers activities to be conducted by the applicant over a 5-year period.

Applicant: Graham Banes, University of Wisconsin-Madison, Madison, WI; Permit No. 93299C

The applicant requests authorization to import biological samples from captive-bred and wild orangutans (Pongo pygmaeus and Pongo abelii) from multiple locations for the purpose of enhancing the propagation or survival of the species through scientific research. This notification covers activities to be conducted by the applicant over a 5-year period.

Applicant: Jordana Meyer, Stanford University, Stanford, CA; Permit No. 55307D

The applicant requests authorization to import biological samples from wild African elephants (Loxodonta africana) taken in Garamba National Park, Republic of Congo, for the purpose of enhancing the propagation or survival of the species through scientific research. This notification is for a single import.

Applicant: St. Augustine Alligator Farm, St. Augustine, FL; Permit No. 15196D

The applicant requests a captive-bred wildlife registration under 50 CFR 17.21(g) for the following species, to enhance the propagation or survival of the species. This notification covers activities to be conducted by the applicant over a 5-year period.

Common name | Scientific name
Cabot's tragopan pheasant | Tragopan caboti.
Komodo island monitor | Varanus komodoensis.
Congo dwarf crocodile | Osteolaemus tetraspis osborni.
African dwarf crocodile | Osteolaemus tetraspis.
Chinese alligator | Alligator sinensis.
Blue-throated macaw | Ara glaucogularis.
Siamese crocodile | Crocodylus siamensis.

Applicant: Bright and Associates, LLC, dba Bright's Zoo, Limestone, TN; Permit No. 51201D

The applicant requests a captive-bred wildlife registration under 50 CFR 17.21(g) for the following species, to enhance the propagation or survival of the species. This notification covers activities to be conducted by the applicant over a 5-year period.

Common name | Species name
Jackass penguin | Spheniscus demersus.
Baird's tapir | Tapirus bairdii.
Cotton-top tamarin | Saguinus oedipus.
Galapagos tortoise | Chelonoidis niger.
Radiated tortoise | Astrochelys radiata.
Lar gibbon | Hylobates lar.

Applicant: Mississippi Aquarium, Gulfport, MS; Permit No. 59433D

The applicant requests a captive-bred wildlife registration under 50 CFR 17.21(g) for jackass penguins (Spheniscus demersus) to enhance the propagation or survival of the species. This notification covers activities to be conducted by the applicant over a 5-year period.

Applicant: Peoria Zoo at Glen Oak Park, Peoria, IL; Permit No. 59321D

The applicant requests a captive-bred wildlife registration under 50 CFR 17.21(g) for the following species, to enhance the propagation or survival of the species. This notification covers activities to be conducted by the applicant over a 5-year period.

Common name | Species name
Chinese alligator | Alligator sinensis.
Panamanian golden frog | Atelopus zeteki.
Mongoose lemur | Eulemur mongoz.
Galapagos tortoise | Chelonoidis niger.
Ring-tailed lemur | Lemur catta.
Mandrill | Mandrillus sphinx.
Siberian tiger | Panthera tigris altaica.
Cotton-top tamarin | Saguinus oedipus.

Applicant: Chattanooga Zoo, Chattanooga, TN; Permit No. 56470D

The applicant requests a captive-bred wildlife registration under 50 CFR 17.21(g) for snow leopards (Uncia uncia) to enhance the propagation or survival of the species. This notification covers activities to be conducted by the applicant over a 5-year period.

Applicant: Steve Martin's Natural Encounters, Inc., Winter Haven, FL; Permit No. 42547B

The applicant requests a captive-bred wildlife registration under 50 CFR 17.21(g) for blue-throated macaw (Ara glaucogularis), to enhance the propagation or survival of the species. This notification covers activities to be conducted by the applicant over a 5-year period.

Applicant: Ox Ranch Investments LLC dba Ox Hunting Ranch, Uvalde, TX; Permit No. 10867B

The applicant requests a captive-bred wildlife registration under 50 CFR 17.21(g) for the following species, to enhance the propagation or survival of the species. This notification covers activities to be conducted by the applicant over a 5-year period.

Common name | Species name
Eld's brow-antlered deer | Cervus eldi.
Arabian oryx | Oryx leucoryx.
Swamp deer | Cervus duvauceli.

Applicant: William Porter, Fort Denaud, FL; Permit No. 08333D

The applicant requests a captive-bred wildlife registration under 50 CFR 17.21(g) for the following species, to enhance the propagation or survival of the species. This notification covers activities to be conducted by the applicant over a 5-year period.

Common name | Scientific name
Madagascar radiated tortoise | Geochelone radiata.
Galapagos tortoise | Geochelone nigra.
Blue-throated macaw | Ara glaucogularis.
St. Vincent parrot | Amazona guildingii.
Cuban parrot | Amazona leucocephala.
White cockatoo | Cacatua alba.
Philippine cockatoo | Cacatua haematuropygia.
Salmon-crested cockatoo | Cacatua moluccensis.

Applicant: UC Davis Center for Plant Diversity, Davis, CA; Permit No. 60226D

The applicant requests authorization to export and reimport nonliving museum plant specimens of endangered species previously accessioned into the applicant's collection for scientific research. This notification covers activities to be conducted by the applicant over a 5-year period.

Applicant: Ox Ranch Investments LLC dba Ox Hunting Ranch, Uvalde, TX; Permit No. 10866B

The applicant requests a permit authorizing the culling of excess Eld's brow-antlered deer (Rucervus eldi), Arabian oryx (Oryx leucoryx), and swamp deer (Rucervus duvauceli) from the captive herd maintained at their facility, to enhance the species' propagation and survival. This notification covers activities to be conducted by the applicant over a 5-year period.

Applicant: Jeff Demaske, Greeley, CO; Permit No. 55199D

The applicant requests a permit to import a sport hunted trophy of a hyena (Parahyaena brunnea) from Zimbabwe for the purpose of enhancing the propagation or survival of the species. This notification is for a single import.

Applicant: Wayne P. Johnson, Long Beach, MS; Permit No. 71738D

The applicant requests a permit to import a sport-hunted trophy of a male scimitar-horned oryx (Oryx dammah) culled from a captive herd maintained in South Africa, to enhance the species' propagation and survival.

Richard Roark, Marshall, TX; Permit No. 72865D

The applicant requests a permit to import a sport-hunted trophy of one sport-hunted trophy of male bontebok (Damaliscus pygargus pygargus) culled from a captive herd maintained under the management program of the Republic of South Africa, for the purpose of enhancing the propagation or survival of the species.

B. Endangered Marine Mammals and Marine Mammals

Applicant: Wild Space Productions, Pacific Grove, CA Permit No. 62285D

The applicant requests a permit to photograph southern sea otters (Enhydra lutris nereis) along the coast of California, at the locations listed below, for the purpose of enhancement of the survival of the species through educational photography.

• Monterey Harbour

• Cannery Row, Pacific Grove stretch

• Monterey Bay Inn, Cannery Row

• Pebble Beach (Point Joe—within Pebble Beach)

• Point Lobos (using boat launch Whalers Cove)

• Monterey Bay Aquarium: Hopkins Marine Station

• Carmel Beach, Carmel-by-the-Sea

• Sandshell Beach—behind Cypress Point

• Otter Point—Perkins Park, Pacific Grove

• Berwick Park

• Elkhorn Slough

• Moss Landing Harbor

• Pescadero

This notification covers activities to be conducted by the applicant over a 5-year period.

IV. Next Steps

After the comment period closes, we will make decisions regarding permit issuance. If we issue permits to any of the applicants listed in this notice, we will publish a notice in the Federal Register. You may locate the notice announcing the permit issuance by searching http://www.regulations.gov for the permit number listed above in this document. For example, to find information about the potential issuance of Permit No. 12345A, you would go to regulations.gov and search for “12345A”.

V. Authority

We issue this notice under the authority of the Endangered Species Act of 1973, as amended (16 U.S.C. 1531 et seq.), and its implementing regulations, and the Marine Mammal Protection Act of 1972, as amended (16 U.S.C. 1361 et seq.), and its implementing regulations.

Monica Thomas,
Management Analyst, Branch of Permits, Division of Management Authority.

[FR Doc. 2020-11078 Filed 5-21-20; 8:45 am]

BILLING CODE 4333-15-P